DEPARTMENT OF EDUCATION

Privacy Act of 1974; System of Records; Human Capital Learning and Performance Improvement System (18-05-14)

AGENCY: Office of Management, Department of Education.

ACTION: Notice of a deleted and new system of records.

SUMMARY: In accordance with the Privacy Act of 1974, as amended (Privacy Act), the Department of Education (Department) deletes system of records 18-05-14, Individual Development Planning System published in the Federal Register on July 31, 2001 (66 FR 39503-39506), because it has been merged into and consolidated with the new system of records published in this notice. This new system of records is entitled “Human Capital Learning and Performance Improvement System (18-05-14).” This new system will be used by employees and supervisors to identify career development opportunities for employees to ensure that employees receive appropriate training and development to enhance job performance. The Human Capital Learning and Performance Improvement System (HCL&PIS) will help guide employees through a systematic career development process for determining skill needs and setting career goals by identifying areas where performance improvement is needed and by providing resources for improving performance.

DATES: The Department seeks comment on the new system of records described in this notice, in accordance with the requirements of the Privacy Act. We must receive your comments on the proposed routine uses for the system of records included in this notice on or before May 12, 2004.

The Department filed a report describing the new system of records covered by this notice with the Chair of the Senate Committee on Governmental Affairs, the Chair of the House Committee on Government Reform, and the Administrator of the Office of Information and Regulatory Affairs, Office of Management and Budget (OMB) on April 7, 2004. This new system of records will become effective at the later date of—(1) The expiration of the 40-day period for OMB review on May 17, 2004 or (2) May 12, 2004, unless the system of records needs to be changed as a result of public comment or OMB review.

ADDRESSES: Address all comments on the new system of records to Ruth Derr, Training and Development Team, Human Resources Services, Office of Management, U.S. Department of Education, 400 Maryland Avenue, SW., room 2W224, Washington, DC 20202-4641. Telephone: (202) 260-3032. If you prefer to send comments through the Internet, use the following address: Comments@ed.gov. You must include the term “HCL&PIS” in the subject line of the electronic message.

During and after the comment period, you may inspect all comments about this notice in room 2W224, 400 Maryland Avenue, SW., Washington, DC, between the hours of 8 a.m. and 4:30 p.m., eastern time, Monday through Friday of each week except Federal holidays.

Assistance to Individuals With Disabilities in Reviewing the Rulemaking Record

On request, we supply an appropriate aid, such as a reader or print magnifier, to an individual with a disability who needs assistance to review the comments or other documents in the public rulemaking record for this notice. If you want to schedule an appointment for this type of aid, please contact the person listed under FOR FURTHER INFORMATION CONTACT.

FOR FURTHER INFORMATION CONTACT: Ruth Derr. Telephone: (202) 260-3032. If you use a telecommunications device for the deaf (TDD), you may call the Federal Information Relay Service (FIRS) at 1-800-877-8339.

Individuals with disabilities may obtain this document in an alternative format (e.g., Braille, large print, audiotape, or computer diskette) on request to the contact person listed under FOR FURTHER INFORMATION CONTACT.

SUPPLEMENTARY INFORMATION:

Introduction

The Privacy Act (5 U.S.C. 552a) requires the Department to publish in the Federal Register this notice of a new system of records maintained by the Department. The Department's regulations implementing the Privacy Act are contained in the Code of Federal Regulations (CFR) in 34 CFR part 5b.

The Privacy Act applies to information about an individual that contains individually identifiable information that is retrieved by a unique identifier associated with each individual, such as a name or social security number. The information about each individual is called a “record” and the system, whether manual or computer-based, is called a “system of records.”

The Privacy Act requires each agency to publish notices of systems of records in the Federal Register. Whenever an agency publishes a new system of records or makes a significant change to an established system of records, the agency is also required to prepare a report for OMB and to send copies of the report to the Chair of the Senate Committee on Governmental Affairs and the Chair of the House Committee on Government Reform. These reports are intended to permit an evaluation of the probable or potential effect of the proposal on the privacy of individuals.

Electronic Access to This Document

You may view this document, as well as all other Department of Education documents published in the Federal Register, in text or Adobe Portable Document Format (PDF) on the Internet at the following site: www.ed.gov/news/fedregister.

To use PDF you must have Adobe Acrobat Reader, which is available free at this site. If you have questions about using PDF, call the U.S. Government Printing Office (GPO), toll free, at 1-888-293-6498, or in the Washington, DC, area at (202) 512-1530.

Note: The official version of this document is the document published in the Federal Register. Free Internet access to the official edition of the Federal Register and the CFR is available on GPO Access at: www.gpoaccess.gov/nara/index.html.

Dated: April 7, 2004.
William J. Leidinger,
Assistant Secretary for Management Chief Information Officer.

For the reasons discussed in the preamble, the Assistant Secretary for Management/Chief Information Officer of the U.S. Department of Education deletes the system of records entitled Individual Development Planning System (18-05-14) published in the Federal Register on July 31, 2001 (66 FR 39503-39506) and issues a new system of records to read as follows:

18-05-14

SYSTEM NAME:

Human Capital Learning and Performance Improvement System (HCL&PIS).

SECURITY CLASSIFICATION:

None.

SYSTEM LOCATION:

U.S. Department of Education, Office of Management, Human Resources Services, Training and Development Team, 400 Maryland Avenue, SW., room 1W100, Washington, DC 20202-4614.

In addition to this location, the records of the Mentoring Program System also will be located at The Training Connection, Inc., 15700 Beacon Court, Montclair, VA 22026.

The following records for the currently existing or prospective programs may be decentralized:

• Competency Development System,

• Skills Assessment System,

• Learning Tracks System,

• Individual Development Plan System,

• Learning Management System,

• Knowledge Management System, and

• Employee Learning Account System.

The additional locations for these programs are listed in the Appendix at the end of this notice.

CATEGORIES OF INDIVIDUALS COVERED BY THE SYSTEM:

Categories of individuals may include all employees of the Department of Education (Department). The system contains records on Department employees who apply for and/or participate in the following programs:

• Mentoring Program System,

• Employee Learning Accounts,

• Tuition Reimbursement Program,

• Leadership and Management Development Program,

• Mobility Assignment Program,

• Upward Mobility Program,

• Evaluation System,

• Certificate Program,

• Career Intern Program, and

• Presidential Management Fellows Program.

The system also contains records on Department employees who request the following services:

• Career Counseling Services, and

• Organizational Development Process.

The system also contains records on Department employees who choose to access the following currently existing or prospective electronic or web-based systems:

• Competency Development System,

• Skills Assessment System,

• Learning Tracks System,

• Individual Development Plan System,

• Mentoring Program System,

• Learning Management System, and

• Knowledge Management System.

CATEGORIES OF RECORDS IN THESE SYSTEM:

This system contains a variety of records related to Department employees' applications for and/or participation in the following programs:

• Skills Assessment System,

• Learning Tracks System,

• Individual Development Plan System,

• Learning Management System,

• Competency Development System,

• Mentoring Program System,

• Knowledge Management System,

• Tuition Reimbursement Program,

• Employee Learning Account,

• Evaluation System,

• Leadership and Management Development Program,

• Career Counseling Service,

• Organizational Development Process,

• Mobility Assignment Program,

• Upward Mobility Program,

• Certificate Program, and

• Career Intern Program/Presidential Management Fellows.

Records in the system contain all or some of the following data: the individual's name, address, social security number, position level, pay plan, grade, series, supervisor, organization in which employed, building, room, telephone number, history of internal/external training attended and other learning and development activities for which the employee participated, associated training costs, competencies needed to perform a job, skill strengths and skill development needs; and short- and long-term career development plan, goals and objectives.

AUTHORITY FOR MAINTENANCE OF THE SYSTEM:

5 U.S.C. sections 3301, 3302, 4103, 4109, and 4115; Executive Orders 13162 (authorizing the Career Intern Program) and 13318 (authorizing the Presidential Management Fellows Program).

PURPOSE(S):

The purpose of the HCL&PIS is to implement the President's Management Agenda and to achieve the Department's One ED initiatives by strategically aligning the Department's human capital resources with its mission, core values, goals and objectives. The Department's ultimate objective is to ensure that the right people with the right skills are in the right jobs. And, in order to sustain a high performing workforce that is continuously improving in productivity, various systems and programs are designed and integrated to allow the Department to identify, develop, track and manage the learning and development of its human capital. This comprehensive systems development approach to learning and performance improvement allows Human Resources Service's (HRS) Training and Development Team (TDT) to identify skills needed for the current and future workforce, to design and implement activities to correct skill gaps and imbalances, and to capture the best-in-practice knowledge and skills of employees who leave the Department. The Department's approach to aligning its human capital resources to its mission includes and consists of implementation of these programs, services, and electronic or web-based systems:

Learning Management System (LMS)

The Learning Management System (LMS) will serve the following purposes: (1) To track course enrollments by Department employees; (2) to provide course rosters; (3) to produce attendance records for Department employees who attend internal training classes; (4) to produce reports on an individual employee's training activities; (5) to produce reports on training activities conducted by individual organizations within the Department; and (6) to allow Department employees to request approval to attend training activities conducted outside the Department.

Competency Development System (CDS)

Competencies are specific knowledge, skills, abilities, characteristics, and behaviors that enhance job performance. Therefore, the CDS will identify competencies for each critical job function within the Department and allow employees within those job functions or who aspire to move into those job functions to identify the level of promotion progression within those jobs and the level of performance required to carry out those functions.

Skills Assessment System (SAS)

Once an individual has identified, through the CDS, the necessary competencies for a specific job function and the expected level of performance at each grade interval, the purpose of the SAS is to help the employee to self-assess and measure, at the various grade intervals, the individual's ability to perform a specific skill and his or her knowledge of a particular job function. Another assessment component will allow the employee to identify individual training needs, including the types of training desired and the varying delivery formats (i.e., classroom or e-learning). In addition, other self-assessment components will be facilitated, analyzed and interpreted by a certified consultant and will allow the employee to assess his or her behavior and interpersonal style in relation to various work environments and to determine areas for improvement. Use of any component of the SAS is voluntary, and information is maintained only on those employees who access the SAS.

Learning Tracks System (LTS)

As a result of the skills assessment, employees may identify existing skills they need to enhance or new skills they need to develop. The LTS will serve the purpose of helping an employee link a specific job function and its levels of performance to various learning and development activities that are available (internally and externally) to the Department.

Individual Development Plan (IDP) System

In addition, as a result of the data identified in the LTS, the IDP system will allow employees to chart a selected learning track and develop a plan of action with objectives that will help them achieve three to five year career goals. The IDP will guide employees through a process of setting short- and long-term developmental objectives and identifying learning activities that will enhance those skills necessary to achieve high performance in their current job function and/or prepare for future career transition goals.

Mentoring Program System (MPS)

The MPS is a learning and development option that complements the traditional classroom training, conference attendance, and e-learning opportunities made available to employees. The MPS will allow a process for creating an environment for one-on-one working relationships. One person invests time, know-how, and effort in enhancing another person's growth, knowledge and skills and responds to that person's critical professional needs in order to help prepare the individual for greater productivity or achievement. In addition, the MPS will focus on developing leaders into coaches, enhancing their ability to influence others, and ingraining a willingness in them to accomplish organizational values, principles and vision. The system will ultimately allow managers and team leaders to train and orient employees to the realities of the workplace and help employees remove any barriers to achieving optimum work performance.

Knowledge Management System (KMS)

The KMS will serve the purpose of establishing a systematic process for identifying, capturing and transferring information and knowledge that can be used to create, complete and improve job functions. The KMS will increase the Department's ability to capture best-in-practice data, share the knowledge, and review past strategic plans, key business initiatives and customer relationships. In addition, having access to this type of historical data will allow Department employees and officials to make better informed decisions for overcoming current barriers and carrying out the organization's mission.

Tuition Reimbursement Program (TRP)

The TRP expands the opportunities for Department employees to pursue higher education learning at a college or university of their choice that is strategically linked to their current job or the mission of the Department. The purpose of this program is to enable the Department to retain and recruit highly skilled employees necessary to carry out mission critical functions within the Department. Courses can be taken through traditional classroom learning or e-learning. Employees receive tuition reimbursement for successfully completing pre-approved graduate or undergraduate job-related courses.

Employee Learning Account (ELA)

The purpose of an ELA is to set aside a specified amount of resources such as dollars, hours, or learning technology tools (e.g., access to the Internet, use of government computers at an employee's desk, or time away from the office) or a combination of these options for an individual employee to use for his or her learning and development. ELAs move the Department's focus to continuous learning and strategic workforce development and integrates resources for training with balancing work and learning time. ELAs can benefit both managers and employees because they improve organizational performance through targeting employees' specific learning needs and involve employees in their own development.

Evaluation System (ES)

The ES will help the TDT measure the effectiveness of the content of training courses; the transfer of knowledge to the participant; the ability of the employee to apply the learning back on the job; and the goals achieved as a result of the employee participating in the learning. The analysis of the data allows TDT to make improvements to the systems and programs as necessary and ensures accountability for results.

Leadership and Management Development Program (LMDP)

The LMDP supports the Department's goal of ensuring management excellence to foster accountability and achieve strategic business outcomes. The purpose of the program is to enhance the ability of leadership to manage effectively their organization, maintain productive interpersonal relationships with subordinates, peers and upper level management, manage conflict, and balance work and life. The focus of the program evolves around the following Executive Core Qualifications: Leading Change, Leading People, Results Driven, Business Acumen and Building Coalitions/Communications.

Career Counseling Service (CCS)

The CCS assists employees with selecting alternatives for their career progression. The purpose of CCS is to provide on-site, confidential, one-on-one career counseling that helps individuals explore their future and match their interests and skills to their career plans. The counselors help employees develop their career profiles and individual development plans to utilize their strengths, maximize their potential, and put them on the path to achieving their goals. Employees determine their potential interests, interpersonal styles and basic skills through various adult-learning techniques. Employees can take charge of their individual development through the CCS. In addition, guidance is provided to employees and/or team leaders to create a comprehensive development plan that will contribute to individual and organizational effectiveness.

Organizational Development Process (ODP)

The purpose of an ODP is to offer principal offices (POs) the opportunity to review their organizational effectiveness in preparation for a reorganization initiative or significant organizational change. In conducting the review, TDT partners with leading management consulting firms staffed with highly respected experts in the fields of organizational development and psychology. They conduct reviews that are tailored to the needs of the organization and can cover such areas as: operating structure, leadership, customer satisfaction, employee satisfaction, organizational performance, and human resource needs. Throughout the review, POs are provided with updates on any emerging trends. In addition, the POs are provided with a report and briefing describing the findings, recommendations and next steps.

Mobility Assignment Program (MAP)

The Mobility Assignment Program (MAP) is designed to provide opportunities for employees to participate in detail assignments offering new skills, perspectives, and knowledge. MAP creates avenues for Department employees to gain experience in program areas in which they have not previously worked, thereby enhancing their skills and broadening their knowledge base. MAP details can last from 30 days to one year. MAP participants who are on a detail assignment for more than 120 days must have an individual development plan (IDP).

Upward Mobility Program (UMP)

The purpose of the UMP is to provide an opportunity for lower level employees whose current job provides limited or no opportunity for advancement, to enter a new career field in a technical, administrative or trade occupation that provides growth potential. The program allows an employee to develop specific skills that will prepare the employee for an identified target position. This program is initiated by the employee's supervisor and is part of a larger career development system that includes creating a position vacancy, developing an IDP, receiving career counseling, completing developmental activities and obtaining a promotion.

Certificate Program (CP)

The purpose of the CP is to provide professional certification for job functions that include, but are not limited to, Information Technology, Accounting, Project Management and Financial Management. Employees within these job functions have the opportunity to enhance their knowledge and skills, stay abreast of the most current practices within their fields, and earn credit hours to maintain the necessary licenses or credentials required in their professions. Employees participate in a formal program that consists of several classes presented by a local college/university or an accredited institution.

Career Intern and Presidential Management Fellows Program (CIP&PMF)

The CIP and PMF Programs are special hiring authorities for recruitment and hiring of entry-level employees into professional career fields. Program participants must create and complete an Individual Development Plan, which identifies the learning objectives and describes the on-the-job and formal learning experiences that the intern will undertake. Progress towards completion of the program objectives and activities is monitored through records of course completions and evaluations of assignments. Successful completion of these programs leads to promotion and/or conversion to a permanent position.

ROUTINE USES OF RECORDS MAINTAINED IN THE SYSTEM, INCLUDING CATEGORIES OF USERS AND THE PURPOSE OF SUCH USES:

The Department may disclose information contained in a record in this system of records under the routine uses listed in this system of records without the consent of the individual if the disclosure is compatible with the purposes for which the record was collected. These disclosures may be made on a case-by-case basis or, if the Department has complied with the computer matching requirements of the Privacy Act, under a computer matching agreement.

(1) Enrollment and Payment Disclosure. The Department may disclose a record in this system of records to course or learning providers for enrollment purposes. Disclosures may also be made to course or learning providers to ensure that appropriate payments are being made to employees requesting reimbursement of their expenses.

(2) Litigation and Alternative Dispute Resolution (ADR) Disclosures.

(a) Introduction. In the event that one of the following parties is involved in litigation or ADR, or has an interest in litigation or ADR, the Department may disclose certain records to the parties described in paragraphs (b), (c), and (d) of this routine use under the conditions specified in those paragraphs:

(i) The Department, or any of its components; or

(ii) Any Department employee in his or her official capacity; or

(iii) Any Department employee in his or her individual capacity where the Department of Justice (DOJ) agrees to or has been requested to provide or to arrange for representation of the employee;

(iv) Any Department employee in his or her individual capacity where the Department has agreed to represent the employee; or

(v) The United States where the Department determines that the litigation is likely to affect the Department or any of its components.

(b) Disclosure to DOJ. If the Department determines that disclosure of certain records to the DOJ, or attorneys engaged by DOJ, is relevant and necessary to litigation or ADR, and is compatible with the purpose for which the records were collected, the Department may disclose those records as a routine use to the DOJ.

(c) Adjudicative Disclosures. If the Department determines that disclosure of certain records to an adjudicative body before which the Department is authorized to appear, or to an individual or entity designated by the Department or otherwise empowered to resolve or mediate disputes, is relevant and necessary to the litigation or ADR, the Department may disclose those records as a routine use to the adjudicative body, individual, or entity.

(d) Parties, Counsel, Representatives and Witnesses. If the Department determines that disclosure of certain records to a party, counsel, representative or witness is relevant and necessary to the litigation or ADR, the Department may disclose those records as a routine use to the party, counsel, representative or witness.

(3) Freedom of Information Act (FOIA) Advice Disclosure. In the event the Department deems it desirable or necessary, in determining whether particular records are required to be disclosed under the FOIA or other authority permitting disclosure of records, disclosure may be made to DOJ or the Office of Management and Budget for the purpose of obtaining advice.

(4) Contract Disclosure. If the Department contracts with an entity for the purposes of performing any function that requires disclosure of records in this system to employees of the contractor, the Department may disclose the records to those employees. Before entering into such a contract, the Department shall require the contractor to maintain Privacy Act safeguards as required under 5 U.S.C 552a(m) with respect to the records in the system.

(5) Enforcement Disclosure. In the event that information in this system of records indicates, either on its face or in connection with other information, a violation or potential violation of any applicable statute, regulation, or order of a competent authority, the relevant records in the system of records may be referred, as a routine use, to the appropriate agency, whether foreign, Federal, State, Tribal, or local, charged with the responsibility of investigating or prosecuting such violation or charged with enforcing or implementing the statute or executive order, or rule, regulation, or order issued pursuant thereto.

(6) Congressional Member Disclosure. The Department may disclose to a member of Congress the records of an individual in response to an inquiry from the member made at the written request of that individual. The member's right to the information is no greater than the right of the individual who requested it.

(7) Disclosure for Use By Law Enforcement Agencies. The Department may disclose information to any Federal, State, local or other agencies responsible for enforcing, investigating, or prosecuting violations of administrative, civil, or criminal law or regulation if that information is relevant to any enforcement, regulatory, investigative or prosecutorial responsibility within the entity's jurisdiction.

(8) Employment, Benefit, and Contracting Disclosure.

(a) For Decisions by the Department. The Department may disclose a record to a Federal, State, or local agency maintaining civil, criminal, or other relevant enforcement or other pertinent records, or to another public authority or professional organization, if necessary to obtain information relevant to a decision concerning the hiring or retention of an employee or other personnel action, the issuance of a security clearance, the letting of a contract, or the issuance of a license, grant, or other benefit.

(b) For Decisions by Other Public Agencies and Professional Organizations. The Department may disclose a record to a Federal, State, local, or foreign agency or other public authority or professional organization, in connection with the hiring or retention of an employee or other personnel action, the issuance of a security clearance, the reporting of an investigation of an employee, the letting of a contract, or the issuance of a license, grant, or other benefit, to the extent that the record is relevant and necessary to the receiving entity's decision on the matter.

(9) Employee Grievance, Complaint, or Conduct Disclosure. The Department may disclose a record in this system of records to another agency of the Federal Government if the record is relevant to one of the following proceedings regarding a present or former employee of the Department: complaint, grievance, discipline or competency determination proceedings. The disclosure may only be made during the course of the proceeding.

(10) Labor Organization Disclosure. The Department may disclose records from this system of records to an arbitrator to resolve disputes under a negotiated grievance procedure or to officials of labor organizations recognized under 5 U.S.C. chapter 71 when relevant and necessary to their duties of exclusive representation.

DISCLOSURE TO CONSUMER REPORTING AGENCIES:

Not applicable to this system of records.

POLICIES AND PRACTICES FOR STORING, RETRIEVING, ACCESSING, RETAINING, AND DISPOSING OF RECORDS IN THE SYSTEM:

STORAGE:

The following programs, services, and systems are maintained in hard copy and on a networked computer database with backup procedures standard to all Department servers: CDS, SAS, LTS, IDP, ES, LMS, KMS, TRP, ELA, LMDP, CCS, ODP, MAP, UMP, CP, CIP, and PMF. The MPS is maintained on a contractor's leased/licensed system. Hard copies will be maintained in locked file cabinets.

RETRIEVABILITY:

The records are retrieved by a manual or computer search by indices. The TDT staff, designated employees, and contractors who support the TDT staff can access data in the systems by employee name or other individual identifiers.

SAFEGUARDS:

All physical access to the sites within the Department where the system of records is maintained are controlled and monitored by security personnel who check each individual entering the building for his or her employee or visitor badge. Direct access to the system of records is restricted to authorized Department staff performing official duties. All hard copy records are maintained in locked file cabinets. Authorized staff is assigned passwords that must be used for access to computerized data. The systems-access passwords are changed frequently. The data is maintained in a secured-access area. All users of the system of records are given unique user IDs with personal identifiers. At a program/server level all interactions by individual users with the system are recorded. The databases will be protected by stringent security mechanisms that include a combination of hardware, operating systems, application software, and database software and procedures. The license holder will also maintain records for the Mentoring Program System. All information sent to the contractor's site for MPS is encrypted protecting against disclosures to third parties. Once data is received at the contractor's website, the contractor for MPS will follow the same safeguards as listed above.

RETENTION AND DISPOSAL:

The Department will retain and dispose of these records in accordance with National Archives and Records Administration General Records Schedule 1, Item 29, for Training Records.

SYSTEM MANAGER(S) AND ADDRESS:

Director, Human Resources Services, Training and Development Team,

Human Resources Services, Office of Management, U.S. Department of Education, 400 Maryland Avenue, SW., room 1W100, Washington, DC 20202-4614.

NOTIFICATION PROCEDURE:

If an individual wishes to inquire whether a record exists regarding him or her in this system, the individual should provide his or her name and social security number to the appropriate system manager. Such request must meet the requirements of the Department's Privacy Act regulations in 34 CFR 5b.5, including proof of identity.

RECORD ACCESS PROCEDURES:

If an individual wishes to gain access to a record in this system, he or she should contact the appropriate system manager and provide information as described in the notification procedure. Requests by an individual for access to a record must meet the requirements in 34 CFR 5b.5.

CONTESTING RECORD PROCEDURES:

If an individual wishes to request an amendment to a record pertaining to himself or herself that is contained in the system of records, he or she should contact the appropriate system manager with the information described in the notification procedure, identify the specific items requested to be changed, and provide a justification for such change. A request to amend a record must meet the requirements in 34 CFR 5b.7.

RECORD SOURCE CATEGORIES:

Information in this system of records is obtained from the individual to whom the information applies. Additionally, the system may obtain additional information from the Department's Federal Personnel Payroll System (FPPS). The FPPS database may be used to provide the employee's social security number, name, grade, job series and service computation date. Supervisor and locator information (building/room/phone number, etc.) and all other information is manually provided by the TDT administrative staff, contractors supporting TDT, the individual employee and/or the supervisor of the employee.

SYSTEM EXEMPTED FROM CERTAIN PROVISIONS OF THE ACT:

None.

Appendix to 18-05-14—Additional Systems Locations

• Capital Place, 555 New Jersey Avenue, NW., Washington, DC 20208.

• Federal Building 6, 400 Maryland Ave., SW., Washington, DC 20202.

• Mary E. Switzer Building, 330 C Street, SW., Washington, DC 20202.

• L'Enfant Plaza, 2100 Corridor, Washington, DC 20202.

• Regional Office Building, 7th and D Streets, SW., Washington, DC 20202.

• 1990 K Street, NW., Washington, DC 20006.

• Union Center Plaza, 830 First Street, NE., Washington, DC 20202.

• Potomac Center, 555 12th Street, SW., Washington, DC 20024.

• Region I, McCormack Post Office and Courthouse, Boston, MA 02109.

• Region II, 75 Park Place, New York, NY 10007.

• Region III, 100 Penn Square East, Philadelphia, PA 19107.

• Region IV, 61 Forsyth Street, SW., Atlanta, GA 30303.

• Region V, 111 North Canal Street, Chicago, IL 60606.

• Region VI, 1999 Bryan Street, Dallas, TX 75201.

• Region VII, 10220 N. Executive Hills Blvd., Kansas City, MO 64153.

• Region VIII, 1244 Speer Blvd., Denver, CO 80204.

• Region IX, 50 United Nations Plaza, San Francisco, CA 94102.

• Region X, 915 Second Avenue, Seattle, WA 98174.

[FR Doc. 04-8237 Filed 4-9-04; 8:45 am]

BILLING CODE 4000-01-P